DEPARTMENT OF HEALTH AND HUMAN SERVICES

National Institutes of Health

Center for Scientific Review; Amended Notice of Meeting

Notice is hereby given of a change in the meeting of the Center for Scientific Review Special Emphasis Panel, PAR-20-117: Maximizing Investigators' Research Award for Early-Stage Investigators, March 25, 2024, 10:00 a.m. to March 26, 2024, 08:00 p.m., National Institutes of Health, Rockledge II, 6701 Rockledge Drive, Bethesda, MD, 20892 which was published in the Federal Register on March 04, 2024, 89 FR 15597, Doc 2024-04445.

This meeting is being amended to change the panel name to “PAR-23-145: Maximizing Investigators' Research Award for Early-Stage Investigators”. The meeting is closed to the public.

Dated: March 5, 2024.
David W. Freeman,
Supervisory Program Analyst, Office of Federal Advisory Committee Policy.

[FR Doc. 2024-05078 Filed 3-8-24; 8:45 am]

BILLING CODE 4140-01-P